DEPARTMENT OF TRANSPORTATION

Federal Aviation Administration

[Summary Notice No. PE-2001-13]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 19, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, D.C., on February 20, 2001.
Donald P. Byrne,
Assistant Chief Counsel for Regulations.

Dispositions of Petitions

Docket No.: FAA-2000-8470.

Petitioner: Western Missouri Aviation Foundation, Inc.

Section of 14 CFR Affected: 14 CFR 135.251, 135.255, 135.353, and appendixes I and J to part 121.

Description of Relief Sought/Disposition: To permit WMAF to conduct local sightseeing flights at (1) the Kansas City Downtown Airport, (2) the Johnson County Executive Airport, or (3) the Lee's Summit Airport, for its fundraising event benefiting the WMAF and the Child Abuse Prevention Association, from the date of issuance of this exemption through January 13, 2001, for compensation or hire, without complying with certain anti-drug and alcohol misuse prevention requirements of part 135. Grant, 12/28/2000, Exemption No. 7412.

Docket No.: FAA-2000-8500.

Petitioner: Atlantic Coast Airlines.

Section of 14 CFR Affected: 14 CFR 25.562(c)(5) and 25.785(a).

Description of Relief Sought/Disposition: To permit ACA the extension of the compliance date regarding the Head Injury Criterion (HIC) for front row passenger seating on Jetstream Series 4100 Model 4101, Serial No. 41101. Grant, 12/22/2000, Exemption No. 6776A.

[FR Doc. 01-4543 Filed 2-22-01; 8:45 am]

BILLING CODE 4910-13-M